DEPARTMENT OF STATE

[Public Notice 11207]

Designation Pursuant to The Foreign Missions Act

Pursuant to the authority vested in the Secretary of State by the laws of the United States including the Foreign Missions Act (22 U.S.C. 4301 et seq.) (the Act) and delegated pursuant to Department of State Delegation of Authority No. 214 of September 20, 1994, I hereby designate events outside of a foreign mission premises as a benefit under the Act.

Clifton C. Seagroves,
Acting Director, Office of Foreign Missions, Department of State.

[FR Doc. 2020-20731 Filed 9-18-20; 8:45 am]

BILLING CODE 4710-43-P